CORPORATION FOR NATIONAL AND COMMUNITY SERVICE

Proposed Information Collection; Submission for OMB Review; Comment Request

AGENCY: Corporation for National and Community Service.

ACTION: Notice.

SUMMARY: The Corporation for National and Community Service (hereinafter the “orporation”), as part of its continuing effort to reduce paperwork and respondent burden, will submit the following public information collection request (ICR) to the Office of Management and Budget (OMB) for review and approval in accordance with the Paperwork Reduction Act of 1995 (Public Law 104-13, (44 U.S.C. Chapter 35)). The Corporation is soliciting from members of the public and affected agencies comments concerning the proposed collection of information.

Currently, the Corporation is soliciting comments concerning a new information collection for the Volunteers in Service to America program (VISTA). The Corporation proposes to conduct a series of surveys and interviews to study the impact of Volunteers in Service to America (VISTA) service on participants enrolling from 1965 to 1994. The object of this study is to explore the long-term impacts of participation on the lives of VISTA participants to a comparison group who (1) Enrolled in VISTA during the same time period,; and (2) completed the VISTA orientation but who did not actually serve in the program (or served for less than one month). Specific life course outcomes of interest include education and employment history, civic engagement and behavior, family life, and intergenerational transfer of values.

Copies of the information collection request can be obtained by contacting the office listed below in the ADDRESSES section of this notice.

DATES: Written comments must be submitted to the office listed in the ADDRESSES section by September 27, 2004.

ADDRESSES: You may submit comments, identified by the title of the information collection activity, by any of the following methods:

(1) By mail sent to: Corporation for National and Community Service, Attn: Kelly Arey, Department of Research and Policy Development, Rm 8109, 1201 New York Avenue, NW., Washington, DC, 20525.

(2) By hand delivery or by courier to the Corporation's mailroom, Room 6010, at the mail address given in paragraph (1) above, between 9 a.m. and 4 p.m., Monday through Friday, except Federal holidays.

(3) By fax to: 202-565-2785, Attn: Kelly Arey.

(4) Electronically through the Corporation's e-mail address system: karey@cns.gov.

(5) Individuals who use a telecommunications device for the deaf (TTY-TDD) may call (202) 565-2799 between 8:30 a.m. and 5 p.m. Eastern time, Monday through Friday.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information to those who are to respond, including through the use of appropriate automated, electronic, mechanical, or other technological collection techniques or other forms of information technology, e.g. permitting electronic submissions of responses.

Background: The Corporation for National and Community Service is strongly committed to evaluating the effectiveness of its programs. VISTA is our country's longest continually operating domestic service program, with over 130,000 participants enrolling since its inception in 1965. Since 1994 the program has been administered by the Corporation as part of AmeriCorps. VISTA participants work in communities to build local capacity to advance economic development in low-income neighborhoods across the United States. The study will examine the long-term impacts VISTA service has on participants' civic attitudes, life decisions, goals, values, and enduring habits of civic engagement.

The object of this study is to explore the long-term impacts of VISTA participation from 1965-1994 on the lives of participants to a comparison group who enrolled in VISTA during the same time period and completed the VISTA orientation but who did not actually serve in the program (or served less than one month). To meet these objectives, a sample of VISTA participants and near-participants will be drawn from the roster of individuals enrolling in VISTA from 1965 to 1994. In addition to collecting information on the outcomes specified above, data on respondent demographics and pre-VISTA experiences will be collected. The inclusion of a comparison group of near-participants will provide insight into the outcomes realized by VISTA participants who completed their term of service.

This study will gather data using phone surveys and in-person interviews. The phone surveys will provide largely quantitative information, while the in-person interviews will allow for the collection of highly detailed and more qualitative descriptions of the life courses charted by VISTA participants and near-participants.

Type of Review: New collection.

Agency: Corporation for National and Community Service.

Title: Study of 40 Years of VISTA's Impact on Volunteers.

OMB Number: None.

Agency Number: None.

Affected Public: Individuals and households

Total Respondents: 1500.

Frequency: One-Time.

Average Time Per Response: 43 minutes (telephone survey: average of 35 minutes per respondent; the in-person interview: average 3.5 hours per respondent).

Estimated Total Burden Hours: 1075 hours.

Total Burden Cost (capital/startup): None.

Total Burden Cost (operating/maintenance): None

Comments submitted in response to this notice will be summarized and/or included in the request for Office of Management and Budget approval of the information collection request; they will also become a matter of public record.

Dated: July 22, 2004.
Robert Grimm,
Acting Director, Department of Research and Policy Development.

[FR Doc. 04-17226 Filed 7-28-04; 8:45 am]

BILLING CODE 6050-$$-P